INTERNATIONAL TRADE COMMISSION

[Investigation No. 337-TA-1281]

Certain Video Security Equipment and Systems, Related Software, Components Thereof, and Products Containing Same; Clarification Concerning Commission Issuance of a Notice of Institution of Investigation

AGENCY: U.S. International Trade Commission.

ACTION: Notice.

The U.S. International Trade Commission (the Commission) issued a Notice, 86 FR 51182-83, which was published in the Federal Register on Tuesday, September 14, 2021. The Commission clarifies that the Office of Unfair Import Investigations is not a party to the investigation referenced in the Notice.

Issued: December 16, 2022.
Jessica Mullan,
Acting Supervisory Attorney.

[FR Doc. 2022-27802 Filed 12-21-22; 8:45 am]

BILLING CODE 7020-02-P